DEPARTMENT OF COMMERCE

International Trade Administration

[A-588-862]

Notice of Final Determination of Sales at Less Than Fair Value: High and Ultra-High Voltage Ceramic Station Post Insulators from Japan

AGENCY: Import Administration, International Trade Administration, Department of Commerce.

EFFECTIVE DATE: November 5, 2003.

FOR FURTHER INFORMATION CONTACT: Timothy Finn or Michele Mire at (202) 482-0065 or (202) 482-4711, respectively, Office of AD/CVD Enforcement IV, Group II, Import Administration, International Trade Administration, U.S. Department of Commerce, 14th Street and Constitution Avenue, NW, Washington, DC 20230.

SUPPLEMENTARY INFORMATION:

Final Determination

We determine that high and ultra-high voltage ceramic station post insulators (HVSPs) from Japan are being, or are likely to be, sold in the United States at less than fair value (LFTV), as provided in section 735 of the Tariff Act of 1930, as amended (the Act). The estimated margins are shown in the “Suspension of Liquidation” section of this notice.

Background

On June 6, 2003, the Department of Commerce (the Department) issued its preliminary determination in the above-captioned antidumping investigation. See Notice of Preliminary Determination of Sales at Less Than Fair Value: High and Ultra-High Voltage Ceramic Station Post Insulators from Japan, 68 FR 35627 (June 16, 2003) (Preliminary Determination). See also Notice of Initiation of Antidumping Duty Investigation: High and Ultra-High Voltage Ceramic Station Post Insulators from Japan, 68 FR 4169 (January 28, 2003) (Initiation Notice).

Since the preliminary determination, the following events have occurred. We gave interested parties an opportunity to comment on the preliminary determination. No case or rebuttal briefs were submitted. On June 20, 2003, NGK Insulators, Ltd. (NGK), the respondent, requested that the Department postpone the final determination the full sixty days as permitted by the statute and the Department's regulations. On June 23, 2003, the Department postponed the final determination until no later than 135 days after the publication of the preliminary determination in the Federal Register. See 68 FR 39897 (July 3, 2003).

Scope of Investigation

The scope of this investigation covers station post insulators manufactured of porcelain, of standard strength, high strength, or extra-high strength,¹ solid core or cavity core, single unit or stacked unit, assembled or unassembled, and with or without hardware attached, rated at 115 kilovolts (kV) voltage class and above (550 kV Basic Impulse Insulation Level and above), including, but not limited to, those manufactured to meet the following American National Standards Institute, Inc. standard class specifications: T.R.- 286, T.R.-287, T.R.-288, T.R.-289, T.R.-291, T.R.-295, T.R.-304, T.R.- 308, T.R.-312, T.R.-316, T.R.-362 and T.R.-391. Subject merchandise is classifiable under subheading 8546.20.0060 of the Harmonized Tariff Schedule of the United States (HTSUS) Annotated. While the HTSUS subheading is provided for convenience and customs purposes, the written description above remains dispositive as to the scope of the investigation.

¹ Station post insulators are manufactured in various styles and sizes, and are classified primarily according to the voltage they are designed to withstand. Under the governing industry standard issued by the Institute of Electrical and Electronic Engineers, the voltage spectrum is divided into three broad classes: “medium” voltage (i.e., less than or equal to 69 kilovolts), “high” voltage (i.e., from 115 to 230 kilovolts), and “extra-high” or “ultra-high” voltage (i.e., greater than 230 kilovolts).

Analysis of Comments Received

As noted above, there were no case or rebuttal briefs submitted in this investigation, nor was a hearing held in this investigation.

Use of Facts Available

In the Preliminary Determination, the Department applied total adverse facts available to the mandatory respondent, NGK, because NGK chose not to participate in the investigation. See Preliminary Determination at 35628. Specifically, the Department assigned NGK a dumping margin of 105.80 percent, the estimated dumping margin rate in the petition. See Initiation Notice at 4171. Also, the Department used the petition margin of 105.80 percent as the “all others” rate. See Preliminary Determination at 35629. Interested parties did not comment on the Department's use of adverse facts available in the Preliminary Determination, nor did they comment on the Department's choice of facts available. For this final determination, we are continuing to apply total adverse facts available to NGK.

Suspension of Liquidation

Pursuant to section 735(c)(1)(B) of the Act, we are instructing the U.S. Bureau of Customs and Border Protection (BCBP) to continue to suspend liquidation of all entries of high and ultra-high voltage ceramic station post insulators from Japan that are entered, or withdrawn from warehouse, for consumption on or after June 16, 2003, the date of publication of the Preliminary Determination. BCBP shall continue to require a cash deposit or the posting of a bond equal to the estimated amount by which the normal value exceeds the U.S. price as shown below. The suspension of liquidation instructions will remain in effect until further notice.

We determine that the following percentage margins exist for the period October 1, 2001 through September 30, 2002:

Manufacturer/Exporter | Weighted-­Average ­Percent ­Margin
NGK | 105.80
All Others | 105.80

International Trade Commission (ITC) Notification

In accordance with section 735(d) of the Act, we have notified the ITC of our determination. As our final determination is affirmative, the ITC will determine, within 45 days, whether these imports are causing material injury, or threat of material injury, to an industry in the United States. If the ITC determines that material injury, or threat of injury does not exist, the proceeding will be terminated and all securities posted will be refunded or cancelled. If the ITC determines that such injury does exist, the Department will issue an antidumping duty order directing BCBP officials to assess antidumping duties on all imports of the subject merchandise entered, or withdrawn from warehouse, for consumption on or after the effective date of the suspension of liquidation.

Notification Regarding Administrative Protective Order (APO)

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: October 29, 2003.
James J. Jochum,
Assistant Secretaryfor Import Administration.

[FR Doc. 03-27861 Filed 11-4-03; 8:45 am]

BILLING CODE 3510-DS-S